DEPARTMENT OF ENERGY

Federal Energy Regulatory Commission

[Docket No. ER04-699-000]

Entergy Services, Inc.; Notice of Meeting

August 13, 2004.

Notice is hereby given that Entergy Services, Inc. (Entergy) will hold a meeting to discuss the types of products that Entergy is currently interested in procuring in the weekly market and under the revised Weekly Procurement Process (WPP) proposed in the above captioned docket. The meeting will be held on August 26, 2004, at 10 a.m. (EDT) in a room to be designated in the offices of the Federal Energy Regulatory Commission, 888 First Street, NE., Washington, DC 20426. Staff of the Federal Energy Regulatory Commission is expected to participate. The meeting is open to the public.

For further information, please contact Anna Cochrane at (202) 502-6357; anna.cochrane@ferc.gov.

Magalie R. Salas,
Secretary.

[FR Doc. E4-1871 Filed 8-19-04; 8:45 am]

BILLING CODE 6717-01-P